DEPARTMENT OF TRANSPORTATION

Federal Aviation Administration

14 CFR Part 39

[Docket No. 2002-NM-04-AD]

RIN 2120-AA64

Airworthiness Directives; Airbus Model A300 B2 and A300 B4 Series Airplanes; A300 B4-600, B4-600R, and F4-600R (Collectively Called A300-600) Series Airplanes; A300 C4-605R Variant F Airplanes; and A310 Series Airplanes

AGENCY: Federal Aviation Administration, DOT.

ACTION: Notice of proposed rulemaking (NPRM).

SUMMARY: This document proposes the adoption of a new airworthiness directive (AD) that is applicable to all Airbus Model A300 B2 and A300 B4 series airplanes; A300 B4-600, B4-600R, and F4-600R (collectively called A300-600) series airplanes; A300 C4-605R Variant F airplanes; and A310 series airplanes. This proposal would require, for certain airplanes, identifying the part number of the landing gear selector valves. For all airplanes, this proposal would require repetitive maintenance tasks or operational tests of the landing gear selector valves, and replacing discrepant valves with certain new valves. This action is necessary to prevent failure of the landing gear selector valves, which could result in residual pressure on the retraction chamber side of the electro-hydraulic selector, and consequent uncommanded retraction of the landing gear when the airplane is on the ground. This action is intended to address the identified unsafe condition.

DATES: Comments must be received by January 21, 2004.

ADDRESSES: Submit comments in triplicate to the Federal Aviation Administration (FAA), Transport Airplane Directorate, ANM-114, Attention: Rules Docket No. 2002-NM-04-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-04-AD” in the subject line and need not be submitted in triplicate. Comments sent via the Internet as attached electronic files must be formatted in Microsoft Word 97 or 2000 or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-04-AD.” The postcard will be date stamped and returned to the commenter.

Availability of NPRMs

Any person may obtain a copy of this NPRM by submitting a request to the FAA, Transport Airplane Directorate, ANM-114, Attention: Rules Docket No. 2002-NM-04-AD, 1601 Lind Avenue, SW., Renton, Washington 98055-4056.

Discussion

The Direction Générale de l'Aviation Civile (DGAC), which is the airworthiness authority for France, notified the FAA that an unsafe condition may exist on all Airbus Model A300 B2 and A300 B4 series airplanes; A300 B4-600, B4-600R, and F4-600R (collectively called A300-600) series airplanes; A300 C4-605R Variant F airplanes; and A310 series airplanes. The DGAC advises that a review of in-service experience, data, and failure consequences of the landing gear selector valve on these airplanes has indicated that a landing gear selector valve that is operated beyond its certified operational life of 32,000 total flight cycles could fail. Failed selector valves, if not corrected, could result in residual pressure on the retraction chamber side of the electro-hydraulic selector, and consequent uncommanded retraction of the landing gear when the airplane is on the ground.

Explanation of Relevant Service Information

Airbus has issued Service Bulletins A300-32-0438, Revision 01, dated November 20, 2001 (for Model A300 B2 and A300 B4 series airplanes); A300-32-6082, Revision 01, dated November 20, 2001 (for Model A300-600 series airplanes and Model A300 C4-605R Variant F airplanes); and A310-32-2118, Revision 01, dated November 20, 2001 (for Model A310 series airplanes).

Service Bulletin A300-32-0438 describes procedures for determining the part number of the landing gear selector valve; replacing discrepant valves with new valves having a specified part number; and performing repetitive operational test maintenance tasks (for airplanes not modified per Airbus Modification 3083), or performing repetitive operational tests of the selector valves and replacing failed valves with new valves (for modified airplanes).

Service Bulletins A300-32-6082 and A310-32-2118 describe procedures for repetitive operational tests of the selector valve, and for replacing failed valves with new valves.

Accomplishment of the actions specified in the service bulletins is intended to adequately address the identified unsafe condition. The DGAC classified these service bulletins as mandatory and issued French airworthiness directive 2001-603(B), dated December 12, 2001, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in and in accordance with the applicable service bulletins described previously, except as discussed below.

Difference Between Proposed AD and the Service Bulletins

Although the service bulletins describe procedures for reporting inspection results, this proposed AD would not require those actions.

Cost Impact

The following table provides the estimated costs to do the actions specified in this proposed AD.

Model | Action | Work hours | Average hourly labor rate (dollars) | Cost per airplane (dollars) | Number of U.S. airplanes | Fleet cost (dollars)
A300 B2 | Part number identification | 1 | 65 | 65 | 32 | 2,080
A300 B4 | MPD task | 1 | 65 | 65, per task cycle | 32 | 2,080, per task cycle
| Operational test | 1 | 65 | 65, per test cycle | 32 | 2,080, per test cycle
A300-600 A300 C4-605R Variant F | Operational test | 1 | 65 | 65, per test cycle | 89 | 5,785, per test cycle
A310 | Operational test | 1 | 65 | 65, per test cycle | 47 | 3,055, per test cycle

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) Is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2002-NM-04-AD.

Applicability: All Model A300 B2 and A300 B4 series airplanes; A300 B4-600, B4-600R, and F4-600R (collectively called A300-600) series airplanes; A300 C4-605R Variant F airplanes; and A310 series airplanes; certificated in any category.

Compliance: Required as indicated, unless accomplished previously.

To prevent failure of the landing gear selector valves, which could result in residual pressure on the retraction chamber side of the electro-hydraulic selector, and consequent uncommanded retraction of the landing gear when the airplane is on the ground, accomplish the following:

Part Number Identification

(a) For Model A300 B2 and A300 B4 series airplanes: Before the accumulation of 32,000 total flight cycles on the landing gear selector valves, or within 600 flight hours after the effective date of this AD, whichever occurs later, do the actions required by paragraphs (a)(1) and (a)(2) of this AD.

(1) Inspect to determine whether any selector valve having part number (P/N) A25199-0-2 is installed.

(2) Replace any selector valve having P/N A25199-0-2 with a new selector valve having P/N A25199-0-3, in accordance with Airbus Service Bulletin A300-32-0438, Revision 01, dated November 20, 2001.

Operational Test

(b) For airplanes installed with selector valves having P/N A25199-0-3 only: Before the accumulation of 32,000 total flight cycles on the landing gear selector valves, or within 600 flight hours after the effective date of this AD, whichever occurs later, perform an operational test of the selector valves. Do the test in accordance with the Accomplishment Instructions of Airbus Service Bulletins A300-32-0438 (for Model A300 B2 and A300 B4 series airplanes), A300-32-6082 (for Model A300-600 series airplanes and Model A300 C4-605R Variant F airplanes), and A310-32-2118 (for Model A310 series airplanes); all Revision 01, dated November 20, 2001; as applicable. Before further flight, replace any valve that fails the operational test with a new valve having P/N A25199-0-3, in accordance with the applicable service bulletin.

Follow-on and Corrective Actions

(c) For Model A300 B2 and A300 B4 series airplanes that have not been modified in accordance with Airbus Modification 3083 (Airbus Service Bulletin A300-32-0269): Within 3,000 flight hours after the accumulation of 32,000 total flight cycles on the valve, or within 3,000 flight hours after performing the operational test required by paragraph (b) of this AD, whichever occurs later, do task 323112-0503-2 of the Airbus A300 Maintenance Planning Document (MPD). Repeat the MPD task thereafter at intervals not to exceed 3,000 flight hours.

(d) For Model A300 B2 and A300 B4 series airplanes that have been modified in accordance with Airbus Modification 3083 (Airbus Service Bulletin A300-32-0269), and for Model A300-600 and A310 series airplanes and Model A300 C4-605R Variant F airplanes: Repeat the operational test specified in paragraph (b) of this AD at the later of the times specified by paragraphs (d)(1) and (d)(2) of this AD. Thereafter, repeat the test at intervals not to exceed 18 months or 2,800 flight cycles, whichever occurs first.

(1) Within 18 months or 2,800 flight cycles, whichever occurs first, after the accumulation of 32,000 total flight cycles on the valve.

(2) Within 18 months or 2,800 flight cycles, whichever occurs first, after performing the initial operational test required by paragraph (b) of this AD.

Alternative Methods of Compliance

(e) In accordance with 14 CFR 39.19, the Manager, International Branch, ANM-116, FAA, is authorized to approve alternative methods of compliance for this AD.

Note 1: The subject of this AD is addressed in French airworthiness directive 2001-603(B), dated December 12, 2001.

Issued in Renton, Washington, on December 12, 2003.
Kevin M. Mullin,
Acting Manager, Transport Airplane Directorate, Aircraft Certification Service.

[FR Doc. 03-31442 Filed 12-19-03; 8:45 am]

BILLING CODE 4910-13-P